COMMITTEE FOR THE IMPLEMENTATION OF TEXTILE AGREEMENTS

Determination under the Textile and Apparel Commercial Availability Provision of the Dominican Republic-Central America-United States Free Trade Agreement (CAFTA-DR Agreement)

February 15, 2008.

AGENCY: The Committee for the Implementation of Textile Agreements (CITA).

ACTION: Determination to add a product in unrestricted quantities to Annex 3.25 of the CAFTA-DR Agreement

EFFECTIVE DATE: February 21, 2008.

SUMMARY: The Committee for the Implementation of Textile Agreements (CITA) has determined that certain composite fabrics, as specified below, are not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

FOR FURTHER INFORMATION ON-LINE: http://web.ita.doc.gov/tacgi/CaftaReqTrack.nsf.Reference number: 38.2007.12.26.Fabric.Columbia SportswearCo.

SUPPLEMENTARYINFORMATION:

Authority: Section 203(o)(4) of the Dominican Republic-Central America-United States Free Trade Agreement Implementation Act (CAFTA-DR Act); the Statement of Administrative Action (SAA) accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the CAFTA-DR Act.

The CAFTA-DR Act requires the President to establish procedures governing the submission of a request and providing opportunity for interested entities to submit comments and supporting evidence before a commercial availability determination is made. In Presidential Proclamations 7987 and 7996, the President delegated to CITA the authority under section 203(o)(4) of the CAFTA-DR Act for modifying the Annex 3.25 list. On March 21, 2007, CITA published final procedures it would follow in considering requests to modify the Annex 3.25 list (72 FR 13256).

On December 26, 2007, CITA received a commercial availability request from Columbia Sportswear Company (Columbia) for a composite fabric consisting of a woven face fabric and a knit backing fabric laminated together by means of a chemical adhesive, of the specifications detailed below. On December 28, 2007, in accordance with CITA's procedures , CITA notified interested parties of, and posted on its website, the accepted petition and requested that interested entities provide by January 10, 2008, a response advising of its objection to the commercial availability request or its ability to supply the subject product. CITA also explained that rebuttals to responses were due to CITA by January 16, 2008.

On January 7, 2008, Polartec, LLC (Polartec) submitted a response with an offer to supply, advising CITA of its objection to the request and explaining its ability to supply the fabric as specified in the request in commercial quantities in a timely manner. In its response, Polartec explained that it had been contacted by Columbia and that it had engaged in extensive discussions regarding development and production of the fabric. Polartec claimed that the sample fabric it had provided Columbia in November 2007 was a substitutable product and a reasonable alternative to the specified product. Polartec further stated that while there had been some difficulties in sourcing one component of the final fabric, a woven face fabric, that product was currently available, and that any concerns Columbia had with respect to the sample previously provided could be addressed.

On January 16, 2008, Columbia submitted its rebuttal to Polartec's response. In its submission, Columbia indicated that it had made significant efforts to produce the fabric with Polartec, and had provided the company ample opportunity to develop the product. Columbia argued that despite its efforts to source the product from Polartec, Polartec was unable to substantiate its claims that it could produce the fabric as specified in a timely manner. Columbia asserted that Polartec's inability to source different components of the final fabric as specified, namely the woven face fabric and the embossing, was the reason that the sample provided by Polartec differed substantially from the specifications Columbia required. Therefore, Columbia argued that Polartec is unable to supply the fabric in question in a timely manner.

On January 24, 2008, in accordance with section 203(o)(4) of the CAFTA-DR Act, Article 3.25 of the CAFTA-DR Agreement, and section 8(c)(4) of CITA's procedures, because there was insufficient information to make a determination within 30 days, CITA extended the period of making a determination by 14 U.S. business days.

On February 6, 2008, in accordance with section 8(c)(4)(i) of CITA's final procedures, CITA held a public meeting with representatives from Columbia, Polartec, and Burlington Worldwide, during which the interested entities presented evidence and arguments to CITA regarding Polartec's stated ability to provide the subject fabric in commercial quantities in a timely manner.

Section 203(o)(4)(C)(ii) of the CAFTA-DR Act provides that after receiving a request, a determination will be made as to whether the subject product is available in commercial quantities in a timely manner in the CAFTA-DR countries. In the instant case, the information on the record clearly indicates that Columbia made significant efforts to source the fabric in the CAFTA-DR region, specifically from Polartec, and that Polartec cannot supply the specified fabric in a timely manner. Therefore, in accordance with section 203(o) of the CAFTA-DR Act, and its procedures, as no interested entity has substantiated its ability to supply the subject product in commercial quantities in a timely manner, CITA has determined to add the specified fabric to the list in Annex 3.25 of the CAFTA-DR Agreement.

The subject fabric is added to the list in Annex 3.25 of the CAFTA-DR Agreement in unrestricted quantities. A revised list has been published on-line.

CITA notes that, in accordance with section 203(o)(4) of the CAFTA-DR Act, Article 3.25 of the CAFTA-DR Agreement, and section 9 of CITA's procedures, an interested entity may request CITA to remove or restrict the quantity of a product listed in Annex 3.25 six months after the product has been added. If CITA determines that the product is available in commercial quantities, or restricted quantities, in a timely manner in the CAFTA-DR countries, CITA will publish in the Federal Register a notice of its determination of removal or restriction. Accordingly, the product will be removed from the Annex 3.25 list, or its quantity restricted, six months after the publication date of CITA's determination.

Specifications:
HTS Subheading: 6001.22
(a) Woven Face Fabric:
Fiber Content: 100% textured polyester with mechanical stretch
Average Yarn Number:
Warp: 114-126 metric/72 filament polyester (71-79 denier/72 filament polyester)
Filling: 107-118 metric/72 filament polyester (76-84 denier/72 filament polyester)
Thread Count: 54-60 warp ends per centimeter x 45-50 filing picks per centimeter(137-152 warp end per inch x (114-126 filling picks per inch)
Weave Type: 2x2 twill with mechanical stretch
Weight: 100-110 grams per square meter (2.9-3.3 ounces per square yard)
Finish: Piece dyed or printed; piece dyed or printed and embossed with engraved rollers
(b) Knit Back Fabric:
Knit: 2 thread circular knit fleece (looped pile knit)
Average Yarn Number:
Face yarn: 114 -127 metric/36 filament (71-79 denier/36 filament)
Fleece yarn: 114-127 metric/144 filament (71-79 denier / 144 filament)
Machine Gauge: 24
Weight: 133-147 grams/sq. meter (3.9-4.3 oz. sq yd)
Finish: Piece dyed or printed; piece dyed or printed and embossed with engraved rollers
NOTES: Face fabric treated with a durable water repellent finish that passes the AATCC Test #22; Fabrics joined with a dot matrix adhesive; Fleece fabric has a mechanical anti-pill finish achieved by shearing the technical back and tumbling in the presence of heat.
>Width: Minimum cuttable width of composite fabric is 143.5 cm (56.5 inches).

R. Matthew Priest,
Chairman, Committee for the Implementation of Textile Agreements.

[FR Doc. 08-784 Filed 2-15-08; 1:42 pm]

BILLING CODE 3510-DS-S